SECURITIES AND EXCHANGE COMMISSION

[File No. 500-1]

Angel Acquisition Corp. n/k/a Biogeron, Inc.;Order of Suspension of Trading

May 22, 2014.

It appears to the Securities and Exchange Commission that there is a lack of current and accurate information concerning the securities of Angel Acquisition, Corp. n/k/a BioGeron, Inc. (“BioGeron”) because it has not filed a periodic report since it filed its Form 10-Q for the period ending September 30, 2011, filed on November 14, 2011.

The Commission is of the opinion that the public interest and the protection of investors require a suspension of trading in the securities of BioGeron. Therefore, it is ordered, pursuant to Section 12(k) of the Exchange Act, that trading in the securities of BioGeron is suspended for the period from 9:30 a.m. E.D.T. on May 22, 2014, through 11:59 p.m. E.D.T. on June 5, 2014.

By the Commission.
Jill M. Peterson,
Assistant Secretary.

[FR Doc. 2014-12248 Filed 5-22-14; 11:15 am]

BILLING CODE 8011-01-P